DEPARTMENT OF COMMERCE

National Oceanic and Atmospheric Administration

RIN 0648-XA761

Pacific Fishery Management Council; Public Meetings

AGENCY: National Marine Fisheries Service (NMFS), National Oceanic and Atmospheric Administration (NOAA), Commerce.

ACTION: Notice of public meetings.

SUMMARY: The Pacific Council and its advisory entities will hold public meetings.

DATES: The Pacific Council and its advisory entities will meet November 1-7, 2011. The Pacific Council meeting will begin on Wednesday, November 2, 2011 at 9:30 a.m., reconvening each day through Monday, November 7, 2011. All meetings are open to the public, except a closed session to be held at the end of the scheduled agenda on Thursday, November 3 to address litigation and personnel matters. The Pacific Council will meet as late as necessary each day to complete its scheduled business.

ADDRESSES: Meetings of the Pacific Council and its advisory entities will be held at the Hilton Orange County Costa Mesa Hotel, 3050 Bristol Street, Costa Mesa, CA 92626; telephone: (714) 540-7000.

Council address: Pacific Fishery Management Council, 7700 NE Ambassador Place, Suite 101, Portland, OR 97220.

FOR FURTHER INFORMATION CONTACT: Dr. Donald O. McIsaac, Executive Director; telephone: (503) 820-2280 or (866) 806-7204 toll free; or access the Pacific Council website, http://www.pcouncil.org for the current meeting location, proposed agenda, and meeting briefing materials.

SUPPLEMENTARY INFORMATION: The following items are on the Pacific Council agenda, but not necessarily in this order:

A. Call to Order

1. Opening Remarks and Introductions

2. Roll Call

3. Executive Director's Report

4. Approve Agenda

B. Open Comment

Comments on Non-Agenda Items

C. Salmon Management

1. 2012 Methodology Review

2. Preseason Salmon Management Schedule for 2012

D. Pacific Halibut Management

2012 Pacific Halibut Regulations

E. Groundfish Management

1. Stock Assessments for 2013-14 Groundfish Fisheries

2. NMFS Report

3. Review of Exempted Fishing Permits for 2013-14 Groundfish Fisheries

4. Biennial Management Specifications for 2013-14 Groundfish Fisheries—Part 1

5. Further Direction on Biennial Management Specifications for 2013-14 Groundfish Fisheries—Part 1

6. Status Report on the 2011 Rationalized Trawl Fishery

7. Trawl Rationalization Trailing Actions

8. Consideration of Inseason Adjustments for 2011 and 2012 Groundfish Fisheries

9. Biennial Management Specifications for 2013-14 Groundfish Fisheries—Part 2

F. Coastal Pelagic Species Management

1. NMFS Report

2. Pacific Sardine Assessment and Coastal Pelagic Species Management Measures for 2012

G. Habitat

Current Habitat Issues

H. Ecosystem Based Management

1. Northwest Fisheries Science Center Integrated Ecosystem Assessment Report

2. Development of a Council Ecosystem Fishery Management Plan

I. Highly Migratory Species Management

1. Council Recommendations on International Highly Migratory Species Management

2. Consideration of the Overfished Status of Bluefin Tuna

J. Administrative Matters

1. Approval of Council Meeting Minutes

2. Fiscal Matters

3. Membership Appointments and Council Operating Procedures

4. Future Council Meeting Agenda and Workload Planning

Schedule of Ancillary Meetings

Day 1—Tuesday, November 1, 2011

Groundfish Advisory Subpanel—8 a.m.

Groundfish Management Team—8 a.m.

Salmon Advisory Subpanel—8 a.m.

Scientific and Statistical Committee—8 a.m.

Budget Committee—3 p.m.

Enforcement Consultants—4:30 p.m.

Mop Up Stock Assessment Briefing—7:30 p.m.

Day 2—Wednesday, November 2, 2011

California State Delegation—7 a.m.

Oregon State Delegation—7 a.m.

Washington State Delegation—7 a.m.

Coastal Pelagic Species Advisory Subpanel—8 a.m.

Coastal Pelagic Species Management Team—8 a.m.

Groundfish Advisory Subpanel—8 a.m.

Groundfish Management Team—8 a.m.

Salmon Advisory Subpanel—8 a.m.

Scientific and Statistical Committee—8 a.m.

Enforcement Consultants—As Needed

Annual Banquet—6 p.m.

Day 3—Thursday, November 3, 2011

California State Delegation—7 a.m.

Oregon State Delegation—7 a.m.

Washington State Delegation—7 a.m.

Coastal Pelagic Species Advisory Subpanel—8 a.m.

Coastal Pelagic Species Management Team—8 a.m.

Groundfish Advisory Subpanel—8 a.m.

Groundfish Management Team—8 a.m.

Enforcement Consultants—As Needed

Day 4—Friday, November 4, 2011

California State Delegation—7 a.m.

Oregon State Delegation—7 a.m.

Washington State Delegation—7 a.m.

Ecosystem Advisory Subpanel—1 p.m.

Groundfish Advisory Subpanel—8 a.m.

Groundfish Management Team—8 a.m.

Habitat Committee—1 p.m.

Enforcement Consultants—As Needed

Day 5—Saturday, November 5, 2011

California State Delegation—7 a.m.

Oregon State Delegation—7 a.m.

Washington State Delegation—7 a.m.

Ecosystem Advisory Subpanel—8 a.m.

Groundfish Advisory Subpanel—8 a.m.

Groundfish Management Team—8 a.m.

Habitat Committee—8 a.m.

Highly Migratory Species Management Team—1 p.m.

Enforcement Consultants—As Needed

Day 6—Sunday, November 6, 2011

California State Delegation—7 a.m.

Oregon State Delegation—7 a.m.

Washington State Delegation—7 a.m.

Groundfish Advisory Subpanel—8 a.m.

Groundfish Management Team—8 a.m.

Highly Migratory Species Advisory Subpanel—8 a.m.

Highly Migratory Species Management Team—8 a.m.

Enforcement Consultants—As Needed

Day 7—Monday, November 7, 2011

California State Delegation—7 a.m.

Oregon State Delegation—7 a.m.

Washington State Delegation—7 a.m.

Although non-emergency issues not contained in this agenda may come before this Council for discussion, those issues may not be the subject of formal Council action during these meetings. Council action will be restricted to those issues specifically listed in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aids should be directed to Carolyn Porter at (503) 820-2280 at least 5 days prior to the meeting date.

Dated: October 11, 2011.
Tracey L. Thompson,
Acting Director, Office of Sustainable Fisheries, National Marine Fisheries Service.

[FR Doc. 2011-26634 Filed 10-13-11; 8:45 am]

BILLING CODE 3510-22-P